INTERNATIONAL TRADE COMMISSION

[Investigation No. 337-TA-645]

In the Matter of Certain Vein Harvesting Surgical Systems and Components Thereof; Notice of Commission Determination Not To Review an Initial Determination Terminating the Investigation in Its Entirety on the Basis of a Settlement Agreement

AGENCY: U.S. International Trade Commission.

ACTION: Notice.

SUMMARY: Notice is hereby given that the U.S. International Trade Commission has determined not to review an initial determination (“ID”) (Order No. 21) issued by the presiding administrative law judge (“ALJ”) in the above-captioned investigation terminating the investigation in its entirety on the basis of a settlement agreement.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on May 5, 2008, based upon a complaint filed on behalf of Maquet Cardiovascular LLC of San Jose, California (“Maquet”) on April 1, 2008, and supplemented on April 22, 2008. 73 FR 24611 (May 5, 2008). The complaint alleged violations of section 337 of the Tariff Act of 1930 (19 U.S.C. 1337) in the importation into the United States, the sale for importation, and the sale within the United States after importation of certain vein harvesting systems or components thereof by reason of infringement of one or more claims of U.S. Patent Nos. RE36,043 and 6,830,546. The notice of investigation named as respondents Terumo Corp. (Tokyo, Japan) and Terumo Cardiovascular Systems Corp. (Ann Arbor, Michigan) (collectively, “Terumo”).

On December 23, 2008, Maquet and Terumo filed a joint motion pursuant to Commission Rule 210.21 to terminate the investigation on the basis of a settlement agreement. On December 31, 2008, the Commission investigative attorney filed a response in support of the motion. On January 16, 2009, the ALJ issued Order No. 21, granting the motion and terminating the investigation in its entirety. Though not designated as such by the ALJ, Order No. 21 is an initial determination under Commission rule 210.42(c). No petitions for review were filed. The Commission has determined not to review the subject ID.

This action is taken under the authority of section 337 of the Tariff Act of 1930, as amended (19 U.S.C. 1337), and of sections 210.21 and 210.42 of the Commission's Rules of Practice and Procedure (19 CFR 210.21 and 210.42).

Issued: February 9, 2009.
By order of the Commission.
Marilyn R. Abbott,
Secretary to the Commission.

[FR Doc. E9-5765 Filed 3-17-09; 8:45 am]

BILLING CODE 7020-02-P